DEPARTMENT OF TRANSPORTATION

Federal Motor Carrier Safety Administration

[Docket No. FMCSA-2007-0030]

Agency Information Collection Activities; Request for Comment; Revision of an Information Collection: Hours of Service (HOS) of Drivers Regulations, Supporting Documents

AGENCY: Federal Motor Carrier Safety Administration (FMCSA), DOT.

ACTION: Notice and request for comments.

SUMMARY: In accordance with the Paperwork Reduction Act of 1995, FMCSA announces its plans to submit the Information Collection Request described below to the Office of Management and Budget (OMB) for review and approval, and invites public comment. The FMCSA invites comments on its plan to request OMB approval to revise an existing information collection (IC) entitled, “Hours of Service of Drivers Regulations,” OMB Control Number 2126-0001. The Agency has updated its calculation of the paperwork burden of the hours of service (HOS) rules to reflect changes in the number of commercial motor vehicle (CMV) drivers, and to clarify the burden associated with supporting documents. The Agency requires most CMV drivers to complete and maintain a record of duty status (RODS), commonly referred to as a logbook, reflecting details of changes in duty status during each 24-hour period. Drivers retain the RODS for a minimum period and then forward them, along with supporting documents (e.g., fuel receipts, road toll tickets), to the motor carrier. The motor carrier uses the supporting documents to assist in reviewing the RODS for accuracy, and retains the RODS and supporting documents for a minimum of 6 months. This IC promotes safety in the operations of motor carriers of property and passengers by assisting the carrier and enforcement officials in ensuring compliance with the HOS rules that ensure drivers are provided adequate opportunities for rest.

DATES: Comments must be submitted on or before January 25, 2008.

ADDRESSES: You may submit comments, identified by DOT Docket ID Number 0030, by any of the following methods:

• Federal eRulemaking Portal: Go to www.regulations.gov. Follow the online instructions for submitting comments.

• Mail: Docket Management Facility: U.S. Department of Transportation, 1200 New Jersey Avenue, SE., West Building Ground Floor, Room W12-140, Washington, DC 20590-0001

• Hand Delivery or Courier: West Building Ground Floor, Room W12-140, 1200 New Jersey Avenue, SE., between 9 a.m. and 5 p.m. ET, Monday through Friday, except Federal holidays.

• Fax: 202-493-2251

Privacy Act: Note that all comments received will be posted without change to http://www.regulations.gov, including any personal information provided. Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket to read background documents or comments received, go to http://www.regulations.gov or the street address listed above. Follow the online instructions for accessing the dockets.

FOR FURTHER INFORMATION CONTACT: Mr. Thomas Yager, Chief, FMCSA Driver and Carrier Operations Division. Telephone: 202-366-4325. E-mail: MCPSD@dot.gov.

SUPPLEMENTARY INFORMATION: Background: The FMCSA regulates the amount of time a driver may drive and be on duty. A CMV driver must keep a record of duty status (RODS), commonly referred to as a logbook, that indicates his or her duty status (driving, on duty not driving, off duty, sleeper berth) for all periods of the duty day. The RODS must be maintained on the CMV for 7 days, and subsequently submitted to the motor carrier along with any “supporting documents,” such as fuel receipts and toll tickets, that could assist in verifying the accuracy of entries on the RODS. The motor carrier must retain the RODS and supporting documents for a minimum of 6 months from date of receipt.

Statutory authority for regulating the hours of service (HOS) of drivers operating CMVs in interstate commerce is derived from 49 U.S.C. 31136 and 31502. The penalty provisions are located at 49 U.S.C. 521, 522 and 526, as amended. On November 28, 1982, the Federal Highway Administration (FHWA), the agency previously responsible for administration of the Federal Motor Carrier Safety Regulations (49 CFR 350 et seq.)(FMCSRs) promulgated a final rule that required a motor carrier to verify the accuracy of the HOS of each driver and to ensure that drivers record their duty status in a specified format (47 FR 53383). The rule as amended is codified at 49 CFR 395.8. The FMCSRs also state that:

No driver shall operate a commercial motor vehicle, and a commercial motor carrier shall not require or permit a driver to operate a commercial motor vehicle, while the driver's ability or alertness is so impaired, or so likely to become impaired, through fatigue, illness, or any other cause, as to make it unsafe for him/her to begin or continue to operate the commercial motor vehicle (49 CFR 392.3).

The rule provides three methods of recording driver HOS:

(1) Paper RODS: This grid form requires the driver to graph time and location on a paper record over a 24-hour period (Section 395.8(g)). It must be present on the CMV in the absence of a regulatory exception.

(2) Automatic On-Board Recording Device (AOBRD): An electronic record is permitted if it is created and maintained by an AOBRD as defined by 49 CFR 395.15. The record must include all the information that would appear on a paper log, and the driver or carrier must be capable of producing this information upon demand.

(3) Time Record: The HOS regulations allow certain “short haul” CMV drivers to record their hours of service by means of a time record, commonly referred to as a time card, maintained at the place of business (Section 395.1(e)). The regulations do not require that these records reflect each change of duty status, but they must show for each day: the time a driver begins work, the time the driver is released from work, and the total hours worked. There are two categories of CMV operators eligible for the exception: (1) Drivers operating certain lightweight CMVs over short distances, and (2) drivers operating within a 100 air-mile radius of the normal work reporting location and returning to that location for release from duty within 12 hours of going on duty.

The RODS is an important tool because it provides the information the carrier and enforcement personnel require to determine the compliance of a driver with the HOS rules. The adherence of drivers and motor carriers to the HOS requirements helps FMCSA protect the public by reducing the number of tired CMV drivers on the highways.

Most States receive grants from FMCSA under the Motor Carrier Safety Assistance Program. As a condition of receiving these grants, States agree to adopt and enforce the FMCSRs, including the HOS rules, as State law. As a result, State enforcement inspectors use the RODS and supporting documents to determine whether CMV drivers, in interstate or intrastate commerce, are complying with the HOS rules.

In addition, FMCSA uses the RODS during on-site compliance reviews (CRs) of motor carriers. The CR determines the overall safety rating of a motor carrier, and a negative review can be damaging to a motor carrier's CMV operations because the results of CRs are public information. Many shippers of property use the results of these CRs, as well as other records of a motor carrier's crash and violation history, in selecting a motor carrier to transport their freight. Finally, the RODS have traditionally been the principal document accepted by the judicial system as evidence to support actions for violations of the HOS regulations. This information collection supports the DOT's Strategic Goal of Safety because the information helps the Agency ensure the safe operation of CMVs in interstate commerce on our Nation's highways.

On August 26, 1994, Congress directed FHWA to revise the HOS rules to improve both driver and motor carrier compliance and the effectiveness of HOS enforcement, at a cost reasonable to the motor carrier industry (The Hazardous Materials Transportation Authorization Act of 1994 (HMTAA) (Pub. L. 103-311, 108 Stat. 1673)). Section 113(b) of the HMTAA directs the Agency to specify the number, type, and frequency of supporting documents that must be maintained as well as the “identification items” that must appear on the documents. The regulation in place at that time remains in effect today: “Each motor carrier shall maintain records of duty status and all supporting documents for each driver it employs for a period of six months from the date of receipt” (49 CFR 395.8(k)).

On April 20, 1998, FHWA proposed a new rule for supporting documents (63 FR 19457). As the successor agency to FHWA for motor carrier responsibilities, FMCSA on May 2, 2000, proposed additional regulatory language to clarify the rules (65 FR 25540). The Agency considered the comments it received from the public on each proposal. On November 3, 2004, FMCSA published a Supplemental NPRM (SNPRM), proposing further clarification of the duties of motor carriers and drivers with respect to supporting documents (69 FR 63997). The SNPRM addressed how a motor carrier could systematically monitor the RODS of its CMV drivers, and discussed the use of supporting documents by the Agency in enforcing the HOS. The principal method for motor carriers to ensure the compliance of their CMV drivers with the HOS rules was a “self-monitoring system” employing supporting documents. The SNPRM contained a list of documents that might serve as supporting documents for a motor carrier's self-monitoring system.

The Agency received 197 public comments on the SNPRM, as well as public comment on all the proposals mentioned above. Some comments indicated that the burden of the paperwork associated with the supporting documents is greater than the estimates provided by FMCSA in accordance with the Paperwork Reduction Act. FMCSA reevaluated its analysis of the rule as required by the PRA. The Agency discovered that the PRA analysis proposed for this rule, did not account for the supporting document collection and retention burdens associated with the existing driver RODS information collection requirements.

In this Information Collection (IC) revision, FMCSA proposes an increase in the number of CMV drivers affected by the HOS regulations. This accounts for an increase in the total number of CMV operators on the highways today, as compared to 2005 when OMB last approved this information collection. The total number of interstate and intrastate CMV drivers is currently estimated to be 7.0 million. Of these, 4.6 million are required to complete RODS and furnish supporting documents. The remainder are “short haul” drivers or others who are exempt from the RODS requirement.

The FMCSA also describes its calculation of the HOS paperwork burden with greater specificity. To do so, the Agency has reorganized its breakdown of the various paperwork tasks performed by drivers and motor carriers. The revised organization separates the paperwork burdens imposed by the RODS requirements from those imposed by the supporting document requirements.

By this notice, the Agency seeks public comment on its revised calculations of the paperwork burden of the HOS rules.

Title: Hours of Service (HOS) of Drivers Regulations, Supporting Documents.

OMB Control Number: 2126-0001.

Type of Request: Revision of a currently-approved information collection.

Respondents: Motor carriers, drivers of CMVs.

Estimated Number of Respondents:

Drivers: Approximately 4.6 million;

Active Motor Carriers: Approximately 700,000.

Estimated Time per Response: The driver will take an average of 6.5 minutes to fill out a RODS, and 5 minutes to forward the completed RODS to the employing motor carrier. The motor carrier takes an average of 2 minutes to review a RODS, 1 minute per day to maintain a RODS, and 1 minute per day to maintain the supporting documents of one RODS.

Expiration Date: 11/30/2008.

Frequency of Response:

Drivers: 240 days per year, on average.

Motor Carriers: 240 days per year, on average.

Total Number of Annual Responses Expected:

A. DRIVER

(1) Filling Out the RODS: 1,104,000,000 (4.6 million drivers × 240 days);

(2) Forwarding the RODS to the Motor Carrier: 115 million (4.6 million drivers × 25 times per year) and

(3) Forwarding the Supporting Documents to the Motor Carrier: 0 (the activity is usual and customary).

B. MOTOR CARRIER

(1) Reviewing the RODS: 552 million (2.3 million RODS reviewed daily × 240 days);

(2) Maintaining the RODS: 1,104,000,000 (4.6 million drivers × 240 days); and

(3) Maintaining the Supporting Documents: 1,104,000,000 (4.6 million drivers × 240 days).

Estimated Total Annual Burden: 184,380,000 hours [driver burden of 129,180,000 hours and motor carrier burden of 55,200,000 hours].

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information. The Agency will summarize or include your comments in the request for OMB's clearance of this information collection.

Issued on: November 15, 2007.
Terry Shelton,
Associate Administrator for Research and Information Technology.

[FR Doc. E7-22879 Filed 11-23-07; 8:45 am]

BILLING CODE 4910-EX-P